DEPARTMENT OF DEFENSE

Office of the Secretary

Defense Intelligence Agency Advisory Board Closed Panel Meeting

AGENCY: Department of Defense, Defense Intelligence Agency.

ACTION: Notice.

SUMMARY: Pursuant to the provisions of Subsection (d) of Section 10 of Public Law 92-463, as amended by Section 5 of Public Law 94-409, notice is hereby given that a closed meeting of the DIA Advisory board has been scheduled as follows:

DATES: 6-7 November 2002 (0900 a.m. to 1700 p.m.).

ADDRESSES: The Pentagon, Defense Intelligence Agency, Director's conference room, 3E267.

FOR FURTHER INFORMATION CONTACT: Mr. Lawrence R. Carnegie, Program Manager, DIA Advisory Board, 7400 Defense Pentagon, Washington, DC 30301-7400, 703/697-7898.

SUPPLEMENTARY INFORMATION: The entire meeting is devoted to the discussion of classified information as defined in section 552b(c)(I), Title 5 of the U.S. Code, and therefore will be closed to the public. The board will receive briefings on and discuss several current intelligence issues and advise the Acting Director, DIA, on related departmental matters.

Dated: October 3, 2002.
Patricia L. Toppings,
Alternate OSD Federal Register Liaison Officer, Department of Defense.

[FR Doc. 02-25938 Filed 10-10-02; 8:45 am]

BILLING CODE 5001-08-M